DEPARTMENT OF THE INTERIOR

National Park Service

Notice of Inventory Completion: U.S. Department of the Interior, National Park Service, Saguaro National Park, Tucson, AZ

AGENCY: National Park Service, Interior.

ACTION: Notice.

Notice is here given in accordance with the Native American Graves Protection and Repatriation Act (NAGPRA), 25 U.S.C. 3003, of the completion of an inventory of human remains and associated funerary objects in the possession of the U.S. Department of the Interior, National Park Service, Saguaro National Park, Tucson, AZ. The human remains and associated funerary objects were removed from two separate sites in the Rincon Mountain District of Saguaro National Park, Pima County, AZ.

This notice is published as part of the National Park Service's administrative responsibilities under NAGPRA, 25 U.S.C. 3003 (d)(3). The determinations in this notice are the sole responsibility of the superintendent, Saguaro National Park.

A detailed assessment of the human remains and associated funerary objects was made by Saguaro National Park professional staff in consultation with representatives of the Gila River Indian Community of the Gila River Indian Reservation, Arizona; Hopi Tribe of Arizona; Salt River Pima-Maricopa Indian Community of the Salt River Reservation, Arizona; Tohono O'odham Nation of Arizona; and Zuni Tribe of the Zuni Reservation, New Mexico. The Ak Chin Indian Community of the Maricopa (Ak Chin) Indian Reservation, Arizona was contacted, but did not attend the consultation meeting and was represented by the Gila River Indian Community of the Gila River Indian Reservation, Arizona.

In 1970, human remains representing a minimum of two individuals were removed from the Freeman Site in Pima County, AZ, during legally authorized excavations under the direction of Jack R. Zahniser. No known individuals were identified. The four associated funerary objects are one Tanque Verde red on brown pottery bowl, one large stone flake chopper, one worked stone, and one soil sample taken from the area encompassing the remains. Saguaro National Park took possession of the human remains and associated funerary objects in 1983 and 1984.

In 1970, human remains representing a minimum of four individuals were removed from the Pithouse Village Site in Pima County, AZ, during legally authorized excavations under the direction of Jack R. Zahniser. No known individuals were identified. No associated funerary objects are present. Saguaro National Park took possession of the human remains in 1983 and 1984.

Based on the burial type and location, as well as available archeological and historical information, the human remains have been identified as Native American. The Freeman Site and the Pithouse Village Site are both Tucson Basin Hohokam villages that span the Rillito and Rincon phases (A.D. 700-1150).

The Hohokam were a sedentary agricultural people developing out of the local Archaic population. Hohokam settlement pattern was predominantly of rancheria type, with pithouse or house-in-pit architecture. Ballcourts are often found at Hohokam sites. Pit or urn cremations were the predominant burial practice prior to A.D. 1100. Extended supine inhumations then became more prevalent, completely replacing cremations by A.D. 1300. There was a pronounced, though far from complete, decline in population after about A.D. 1350.

Overall, the archeological (including material culture, architectural styles, and burial practices), ethnographic, and historical evidence indicate affiliation with a number of contemporary indigenous groups including the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico. In addition, the oral traditions of these six tribes support ancestral ties to the Hohokam.

Officials of Saguaro National Park have determined that, pursuant to 25 U.S.C. 3001 (9-10), the human remains and funerary objects described above represent the physical remains of six individuals of Native American ancestry. Officials of Saguaro National Park also have determined that, pursuant to 25 U.S.C. 3001 (3)(A), the four objects described above are reasonably believed to have been placed with or near individual human remains at the time of death or later as part of the death rite or ceremony. Lastly, officials of Saguaro National Park have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact Sarah Craighead, superintendent, Saguaro National Park, 3693 South Old Spanish Trail, Tucson, AZ 85730, telephone (520) 733-5101, before August 28, 2006. Repatriation of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

Saguaro National Park is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: June 20, 2006.
Sherry Hutt,
Manager, National NAGPRA Program.

[FR Doc. E6-12001 Filed 7-26-06; 8:45 am]

BILLING CODE 4312-50-S